DEPARTMENT OF LABOR

Employment and Training Administration

[TA-W-57,700]

Joy Technologies, Inc.; DBA Joy Mining Machinery; Mt. Vernon Plant; Mt. Vernon, IL; Notice of Negative Determination on Reconsideration

On November 16, 2005, the Department issued an Affirmative Determination Regarding Application for Reconsideration for the workers and former workers of the subject firm. The Notice of determination regarding Trade Adjustment Assistance (TAA) and Alternative Trade Adjustment Assistance (ATAA) was published in the Federal Register on December 15, 2005 (70 FR 74373).

The International Brotherhood of Boilermakers, Iron Ship Builders, Blacksmiths, Forgers and Helpers, Local 483, (“Union”) filed a petition on behalf of workers producing underground mining machinery (i.e. shuttle cars, electrical motors, gearboxes, and armored face conveyors) at the subject facility. Workers are not separately identifiable by product line.

The initial investigation revealed that sales and employment at the subject facility increased in 2004 from 2003 levels, that sales remained stable in January through July 2005 over the corresponding 2004 period, and that employment increased during January through July 2005 over the corresponding 2004 period. Company-wide sales increased during January through July 2005 from January through July 2005 levels.

The investigation also revealed that the subject firm did not import articles like or directly competitive with those produced at the subject firm or shift production abroad. The Department determined that the worker separations at the subject firm are attributable to the firm's shift in production from the subject facility to another domestic production facility.

In a letter dated November 3, 2005, two workers and the Union requested administrative reconsideration. The request stated that the subject facility is “an upstream supplier to the Joy Mining Machinery facility” located in Franklin, Pennsylvania and alleged that component production is being shifted to Mexico.

While the Union had filed the petition as primarily-affected (affected by imports or production shift of articles produced at the subject facility), the request for reconsideration is based on a secondarily-affected position (affected by loss of business as a supplier/assembler/finisher of products or components for a TAA certified firm). Although the request for reconsideration is beyond the scope of the petition, the Department conducted an investigation to address the workers' and Union's allegations.

As part of the reconsideration investigation, the Department contacted the petitioning workers, Union representatives, and the subject company for additional information and clarification of previously-submitted information.

Joy Mining Machinery, Franklin, Pennsylvania, was certified for TAA on January 19, 2000 (expired January 19, 2002). Because the investigation revealed that employment, sales and production levels at the Franklin, Pennsylvania facility increased during relevant period and TAA certification for Joy Mining Machinery, Franklin, Pennsylvania had expired prior to the relevant period, the workers cannot be certified for TAA as secondarily-affected.

The reconsideration investigation also revealed that the subject company does not have a Mexico facility which produces articles which are like or directly competitive with those produced at the subject facility, that the work at issue is temporary work which was assigned to several subject company facilities (including the Mt. Vernon, Illinois facility) to help meet peak demand, and that the “overflow” work was for the production of articles not normally produced at the subject facility. The Department also confirmed that work shifted from the subject facility to an affiliated production facility in Kentucky.

Conclusion

After review of the application and investigative findings, I conclude that there has been no error or misinterpretation of the law or of the facts which would justify reconsideration of the Department of Labor's prior decision. Accordingly, the application is denied.

Signed at Washington, DC, this 19th day of January 2006.
Elliott S. Kushner,
Certifying Officer, Division of Trade Adjustment Assistance Assistance.

[FR Doc. E6-1134 Filed 1-27-06; 8:45 am]

BILLING CODE 4510-30-P